DEPARTMENT OF JUSTICE

Notice of Lodging of Proposed Settlement Agreement Under the Comprehensive Environmental Response, Compensation and Liability Act

Notice is hereby given that on March 19, 2009, a proposed Consent Decree and Settlement Agreement regarding two sites in Texas was filed with the United States Bankruptcy Court for the Southern District of Texas in In re Asarco LLC, No. 05-21207 (Bankr. S.D. Tex.). The proposed Agreement entered into by the United States (on behalf of the Environmental Protection Agency), the state of Texas, and Asarco LLC provides, inter alia, for the establishment of a custodial trust, the transfer of certain properties to that trust, and funding of the trust with allowed administrative expense claims for administrative and site cleanup costs. The proposed Agreement provides the custodial trust with an allowed administrative expense claim of $52 million to cover its administrative costs and fund cleanup work at certain properties owned by Asarco in Amarillo and El Paso Texas.

The Department of Justice will receive comments relating to the proposed Agreement for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to In re Asarco LLC, DJ Ref. No. 90-11-3-08633. Commenters may request an opportunity for a public meeting in the affected area, in accordance with Section 7003(d) of RCRA, 42 U.S.C. 6973(d).

The proposed Agreement may be examined at the Office of the United States Attorney for the Southern District of Texas, 800 North Shoreline Blvd., #500, Corpus Christi, TX 78476-2001, or at the Region 6 Office of the United States Environmental Protection Agency, Fountain Place 12th Floor, Suite 1200, 1445 Ross Avenue, Dallas, TX 75202-2733. During the public comment period, the proposed Agreement may also be examined on the following Department of Justice Web site, http://www.usdoj.gov/enrd/Consent_Decrees.html. A copy of the proposed Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $10.25 (without attachments) or $23.50 (with attachments) (25 cents per page reproduction cost) payable to the U.S. Treasury.

Maureen Katz,
Assistant Section Chief, Environmental Enforcement Section.

[FR Doc. E9-6782 Filed 3-25-09; 8:45 am]

BILLING CODE 4410-15-P